DEPARTMENT OF THE INTERIOR

National Park Service

Notice of Intent To Prepare an Environmental Impact Statement (EIS) for the General Management Plan (GMP) for Fort Donelson National Battlefield, TN

SUMMARY: Pursuant to 42 U.S.C. 4332(2)(C) of the National Environmental Policy Act of 1969 and Director's Order Number 12 (Conservation Planning, Environmental Impact Analysis, and Decision-Making) the NPS is preparing an EIS for a GMP for Fort Donelson National Battlefield, Tennessee.

The GMP will prescribe the resource conditions and visitor experiences that are to be achieved and maintained in the national battlefield over the next 20 years. The clarification of what must be achieved according to law and policy will be based on review of the battlefield's purpose, significance, special mandates, and the body of laws and policies directing park management. Based on determinations of desired conditions, the GMP will outline the types of resource management activities, visitor activities, and development that would be appropriate in the future. A range of reasonable management alternatives will be developed through this planning process and will include, at a minimum, a no-action alternative and a preferred alternative.

Issues to be addressed will include but are not limited to the following: Management of Fort Henry and Fort Heiman properties and tracts adjacent to the boundary that were recently added to the national battlefield; potential impacts from outside development including the Highway 79 realignment; and the inventory and preservation of cultural and natural resources.

DATES: Comments should be submitted no later than 60 days after publication of this notice. Public meetings regarding the GMP will be held throughout the planning process. Specific dates, times, and locations will be made available in the local media, on the NPS Planning, Environment and Public Comment (PEPC) Web site: (http://parkplanning.nps.gov/fodo), or by contacting the Superintendent of Fort Donelson National Battlefield.

ADDRESSES: Information on the planning process and copies of newsletters will be available from the office of the Superintendent, P.O. Box 434, Dover, Tennessee 37058-0434.

SUPPLEMENTARY INFORMATION: Public and agency involvement will be solicited at several key steps in the planning process including initial scoping, alternatives development, and the draft plan.

If you wish to comment on any issues associated with the plan, you may submit your comments to the planning team by any one of several methods. You may mail comments to Fort Donelson National Battlefield, P.O. Box 434, Dover, Tennessee 37058-0434. You may also comment electronically at http://parkplanning.nps.gov/fodo. Finally, you may hand-deliver comments to the national battlefield headquarters located in Dover, Tennessee. Before including your address, phone number, e-mail address, or other personal identifying information in your comment, be advised that your entire comment—including your personal identifying information—may be made publicly available at any time. While you can ask us in your comment to withhold from public review your personal identifying information, we cannot guarantee that we will be able to do so.

Authority: The authority for publishing this notice is contained in 40 CFR 1506.6.

FOR FURTHER INFORMATION CONTACT: Superintendent Steven McCoy, Fort Donelson National Battlefield, P.O. Box 434, Dover, Tennessee 37058-0434; telephone: 931-232-5348. The responsible official for this EIS is the Regional Director, Southeast Region, National Park Service, 100 Alabama Street, SW., 1924 Building, Atlanta, Georgia 30303.

Dated: September 8, 2008.
David Vela,
Regional Director, Southeast Region.

[FR Doc. E8-26704 Filed 11-7-08; 8:45 am]

BILLING CODE 4310-LN-P